DEPARTMENT OF HEALTH AND HUMAN SERVICES

Administration for Children and Families

Office of Refugee Resettlement; Grant to the Virginia Office of Newcomer Services

AGENCY: Office of Refugee Resettlement, DHHS.

ACTION: Grant award announcement.

SUMMARY: Notice is hereby given that an award is being made to the Virginia Office of Newcomer Services, Richmond, Virginia in the amount of $375,000 to provide funds to refugees in need of employment assistance as a result of the September 11, 2001 attack on the Pentagon. The closure of Reagan National Airport and the rapid decline in the metropolitan Washington, DC hospitality industry caused substantial numbers of refugees to lose their jobs. Many of these refugees arrived in the United States some time ago and are no longer eligible for refugee cash assistance and refugee medical assistance.

The Virginia Office of Newcomer Services intends to provide funds for mental health services, transportation assistance, English as a Second Language, direct assistance, and State administration costs.

After the appropriate reviews, it has been determined that the need for additional services is compelling. The period of this funding will extend through March 31, 2003.

FOR FURTHER INFORMATION CONTACT: Loren Bussert, Office of Refugee Resettlement, Administration for Children and Families, 370 L'Enfant Promenade, SW., Washington, DC 20447, telephone (202) 401-4732.

Dated: March 18, 2002.
Nguyen Van Hanh,
Director, Office of Refugee Resettlement.

[FR Doc. 02-6919 Filed 3-21-02; 8:45 am]

BILLING CODE 4184-01-M